DEPARTMENT OF TRANSPORTATION

Federal Aviation Administration

14 CFR Part 39

[Docket No. FAA-2008-1312; Directorate Identifier 2008-CE-065-AD]

RIN 2120-AA64

Airworthiness Directives; Hawker Beechcraft Corporation Models 1900, 1900C, and 1900D Airplanes

AGENCY: Federal Aviation Administration (FAA), Department of Transportation (DOT).

ACTION: Notice of proposed rulemaking (NPRM).

SUMMARY: We propose to adopt a new airworthiness directive (AD) for certain Hawker Beechcraft Corporation (HBC) Models 1900, 1900C, and 1900D airplanes. This proposed AD would require a one-time visual inspection and repetitive ultrasonic inspections of the left and right main landing gear (MLG) actuators for leaking and/or cracks with replacement of the actuator if leaking and/or cracks are found. This proposed AD results from reports of leaking and cracked actuators. We are proposing this AD to detect and correct leaking and cracks in the MLG actuators, which could result in loss of hydraulic fluid. This condition could lead to an inability to extend or lock down the landing gear, which could result in a gear up landing or a gear collapse on landing.

DATES: We must receive comments on this proposed AD by February 13, 2009.

ADDRESSES: Use one of the following addresses to comment on this proposed AD:

• Federal eRulemaking Portal: Go to http://www.regulations.gov. Follow the instructions for submitting comments.

• Fax: (202) 493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

For service information identified in this proposed AD, contact Hawker Beechcraft Corporation, P.O. Box 85, Wichita, Kansas 67201-0085; telephone: (800) 429-5372 or (316) 676-3140; Internet: http://pubs.hawkerbeechcraft.com.

FOR FURTHER INFORMATION CONTACT: Don Ristow, Aerospace Engineer, 1801 Airport Road, Room 100, Wichita, Kansas 67209; telephone: (316) 946-4120; fax: (316) 946-4107.

SUPPLEMENTARY INFORMATION:

Comments Invited

We invite you to send any written relevant data, views, or arguments regarding this proposed AD. Send your comments to an address listed under the ADDRESSES section. Include the docket number, “FAA-2008-1312; Directorate Identifier 2008-CE-065-AD” at the beginning of your comments. We specifically invite comments on the overall regulatory, economic, environmental, and energy aspects of the proposed AD. We will consider all comments received by the closing date and may amend the proposed AD in light of those comments.

We will post all comments we receive, without change, to http://www.regulations.gov, including any personal information you provide. We will also post a report summarizing each substantive verbal contact we receive concerning this proposed AD.

Discussion

We have received information that two HBC 1900 series airplanes' MLG actuators have been found with fatigue cracks in the end cap, which resulted in hydraulic fluid leakage. This condition, along with an inoperative liquid level sensor, was found on another airplane that landed with all landing gear up. There have been a total of 6 reports of leaking actuators and 13 reports of cracked actuators.

This condition, if not corrected, could result in leaking and cracks in the MLG actuators, which may cause loss of hydraulic fluid. Loss of hydraulic fluid could lead to an inability to extend or lock down the landing gear, which could result in a gear up landing or a gear collapse on landing.

Relevant Service Information

We have reviewed Hawker Beechcraft Mandatory Service Bulletin SB 32-3870, dated April 2008.

The service information describes procedures for doing the following:

• One-time visual inspection and repetitive ultrasonic inspections of the MLG actuators;

• Replacement of the actuator if leaking and/or cracks are found; and

• Reporting the size and location of cracks to HBC if any are found during the inspections.

FAA's Determination and Requirements of the Proposed AD

We are proposing this AD because we evaluated all information and determined the unsafe condition described previously is likely to exist or develop on other products of the same type design. This proposed AD would require a one-time visual inspection of the left and right main landing gear (MLG) actuators and repetitive ultrasonic inspections of the left and right MLG actuators for leaking and/or cracks with replacement of the actuator if leaking and/or cracks are found.

Costs of Compliance

We estimate that this proposed AD would affect 300 airplanes in the U.S. registry.

The ultrasonic inspection includes the time allowed for removing and reinstalling the actuator. We estimate the following costs to do the proposed inspections:

Labor cost | Parts cost | Total cost per airplane | Total cost on U.S. operators
Visual Inspection: .5 work-hour × $80 per hour = $40 | Not applicable | $40 | $12,000
Ultrasonic Inspection: 6 work hours × $80 per hour = $480 (If the mechanic does not remove the actuator for the ultrasonic inspection, the labor cost will be less.) | Not applicable | 480 | 144,000

We estimate the following costs to do any necessary replacements that would be required based on the results of the proposed inspections. We have no way of determining the number of airplanes that may need this replacement:

Labor cost | Parts cost | Total cost per airplane
6 work hours × $80 per hour = $480 (If the mechanic removes the actuator for the ultrasonic inspection, then the labor cost will be less.) | $4,600 per actuator | $5,080

Authority for This Rulemaking

Title 49 of the United States Code specifies the FAA's authority to issue rules on aviation safety. Subtitle I, Section 106, describes the authority of the FAA Administrator. Subtitle VII, Aviation Programs, describes in more detail the scope of the Agency's authority.

We are issuing this rulemaking under the authority described in Subtitle VII, Part A, Subpart III, Section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We have determined that this proposed AD would not have federalism implications under Executive Order 13132. This proposed AD would not have a substantial direct effect on the States, on the relationship between the national Government and the States, or on the distribution of power and responsibilities among the various levels of government.

For the reasons discussed above, I certify that the proposed regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a regulatory evaluation of the estimated costs to comply with this proposed AD and placed it in the AD docket.

Examining the AD Docket

You may examine the AD docket that contains the proposed AD, the regulatory evaluation, any comments received, and other information on the Internet at http://www.regulations.gov; or in person at the Docket Management Facility between 9 a.m. and 5 p.m., Monday through Friday, except Federal holidays. The Docket Office (telephone (800) 647-5527) is located at the street address stated in the ADDRESSES section. Comments will be available in the AD docket shortly after receipt.

List of Subjects in 14 CFR Part 39

Air transportation, Aircraft, Aviation safety, Incorporation by reference, Safety.

The Proposed Amendment

Accordingly, under the authority delegated to me by the Administrator, the FAA proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

Hawker Beechcraft Corporation: Docket No. FAA-2008-1312; Directorate Identifier 2008-CE-065-AD.

Comments Due Date

(a) We must receive comments on this airworthiness directive (AD) action by February 13, 2009.

Affected ADs

(b) None.

Applicability

(c) This AD applies to the following airplane models and serial numbers that are certificated in any category and equipped with a part number (P/N) 114-380041-11, 114-380041-13, or 114-380041-15 main landing gear (MLG) actuator:

Models | Serial Nos.
(1) 1900 | UA-3.
(2) 1900C | UB-1 through UB-74, UC-1 through UC-174, and UD-1 through UD-6.
(3) 1900D | UE-1 through UE-439.

Unsafe Condition

(d) This AD results from reports of leaking and cracked actuators. We are issuing this AD to detect and correct leaking and cracks in the MLG actuators, which could result in loss of hydraulic fluid. This condition could lead to an inability to extend or lock down the landing gear, which could result in a gear up landing or a gear collapse on landing.

Compliance

(e) To address this problem, you must do the following, unless already done:

Actions | Compliance | Procedures
(1) Do a one-time visual inspection of the MLG actuator for cracks. | Within the next 50 hours time-in-service after the effective date of this AD or within the next 30 days after the effective date of this AD, whichever occurs later. | Follow Hawker Beechcraft Mandatory Service Bulletin SB 32-3870, dated April 2008.
(2) Do an ultrasonic inspection of the MLG actuator. | Initially within the next 600 cycles after the effective date of this AD or within the next 3 months after the effective date of this AD, whichever occurs first. Repetitively thereafter inspect at intervals not to exceed every 1,200 cycles since the last ultrasonic inspection. | Follow Hawker Beechcraft Mandatory Service Bulletin SB 32-3870, dated April 2008.
(3) If cracks are found during any inspection required in paragraph (e)(1) or (e)(2) of this AD, replace the MLG actuator with one of the following: | Before further flight after the inspection where the cracks are found. | Follow Hawker Beechcraft Mandatory Service Bulletin SB 32-3870, dated April 2008.
(i) MLG actuator P/N 114-380041-15 (or FAA-approved equivalent P/N) that is new or has been inspected following paragraphs (e)(1) and (e)(2) of this AD and has been found to not have cracks; or
(ii) MLG actuator P/N 114-380041-17 (or FAA-approved equivalent P/N). Installation of MLG actuator P/N 114-380041-17 (or FAA-approved equivalent P/N) terminates the inspection requirements of paragraphs (e)(1) and (e)(2) of this AD.
(4) Do not install any MLG actuator P/N 114-380041-11 or 114-380041-13. | As of 3 months after the effective date of this AD. | Not applicable.

Note: The compliance times of cycles in this AD may be calculated as hours time-in-service (TIS) by multiplying the number of hours TIS on the MLG actuator by 4 to come up with the number of cycles. For the purposes of this AD:

1. 600 cycles equals 150 hours TIS; and

2. 1,200 cycles equals 300 hours TIS.

(f) If cracks are found during any inspection required in paragraphs (e)(1) or (e)(2) of this AD, report the size and location of the cracks to the type-certificate (TC) holder and send a copy of the report to the FAA.

(i) For the TC holder: Send report to Hawker Beechcraft Corporation, P.O. Box 85, Wichita, Kansas 67201-0085.

(ii) For the FAA: Send report to Don Ristow, Aerospace Engineer, Wichita ACO, 1801 Airport Road, Room 100, Wichita, Kansas 67209; e-mail: donald.ristow@faa.gov.

(iii) The Office of Management and Budget (OMB) approved the information collection requirements contained in this regulation under the provisions of the Paperwork Reduction Act of 1980 (44 U.S.C. 3501 et seq.) and assigned OMB Control Number 2120-0056.

Alternative Methods of Compliance (AMOCs)

(g) The Manager, Wichita Aircraft Certification Office (ACO), FAA, has the authority to approve AMOCs for this AD, if requested using the procedures found in 14 CFR 39.19. Send information to ATTN: Don Ristow, Aerospace Engineer, Wichita ACO, 1801 Airport Road, Room 100, Wichita, Kansas 67209; telephone: (316) 946-4120; fax: (316) 946-4107. Before using any approved AMOC on any airplane to which the AMOC applies, notify your appropriate principal inspector (PI) in the FAA Flight Standards District Office (FSDO), or lacking a PI, your local FSDO.

Related Information

(h) To get copies of the service information referenced in this AD, contact Hawker Beechcraft Corporation, P.O. Box 85, Wichita, Kansas 67201-0085; telephone: (800) 429-5372 or (316) 676-3140; Internet: http://pubs.hawkerbeechcraft.com. To view the AD docket, go to U.S. Department of Transportation, Docket Operations, M-30, West Building Ground Floor, Room W12-140, 1200 New Jersey Avenue, SE., Washington, DC 20590, or on the Internet at http://www.regulations.gov.

Issued in Kansas City, Missouri, on December 8, 2008.
Kim Smith,
Manager, Small Airplane Directorate, Aircraft Certification Service.

[FR Doc. E8-29591 Filed 12-12-08; 8:45 am]

BILLING CODE 4910-13-P